DEPARTMENT OF ENERGY

Office of Science; High Energy Physics Advisory Panel

AGENCY: Department of Energy.

ACTION: Notice of open meeting.

SUMMARY: This notice announces a meeting of the High Energy Physics Advisory Panel (HEPAP). Federal Advisory Committee Act (Pub. L. 92-463, 86 Stat. 770) requires that public notice of these meetings be announced in the Federal Register.

DATES: Monday, October 29, 2001; 9 a.m. to 6 p.m. and Tuesday, October 30, 2001; 8:30 a.m. to 4 p.m.

ADDRESSES: National Science Foundation, Stafford Bldg. I, 4201 Wilson Blvd., Arlington, VA. (When arriving at Stafford Bldg. 1, Check In with Information Desk, please show a picture ID, then proceed to Stafford Bldg. II, Room 555—Stafford Bldg. II is right next door to Stafford Bldg. I) (Also, please check out the NSF website for travel information to this meeting—the address is http://www.nsf.gov/home/visit/start.htm).

FOR FURTHER INFORMATION CONTACT: Glen Crawford, Executive Secretary; High Energy Physics Advisory Panel; U.S. Department of Energy; 19901 Germantown Road; Germantown, Maryland 20874-1290; Telephone: 301-903-9458.

SUPPLEMENTARY INFORMATION: Purpose of Meeting: To provide advice and guidance on a continuing basis with respect to the high energy physics research program.

Tentative Agenda: Agenda will include discussions of the following:

Monday, October 29, 2001, and Tuesday, October 30, 2001.

• Discussion of Department of Energy High Energy Physics Programs

• Discussion of National Science Foundation Elementary Particle Physics Program

• Discussion of the DOE/NSF High Energy Physics Advisory Panel, Subpanel on Long Range Planning for U.S. High Energy Physics

• Discussion of High Energy Physics University Programs

• Reports on and Discussion of U.S. Large Hadron Collider Activities

• Reports on and Discussions of Topics of General Interest in High Energy Physics

• Public Comment (10-minute rule)

Public Participation: The meeting is open to the public. If you would like to file a written statement with the Panel, you may do so either before or after the meeting. If you would like to make oral statements regarding any of these items on the agenda, you should contact Glen Crawford, 301-903-9458 or Glen.Crawford@science.doe.gov (e-mail). You must make your request for an oral statement at least 5 business days before the meeting. Reasonable provision will be made to include the scheduled oral statements on the agenda. The Chairperson of the Panel will conduct the meeting to facilitate the orderly conduct of business. Public comment will follow the 10-minute rule.

Minutes: The minutes of the meeting will be available for public review and copying within 60 days at the Freedom of Information Public Reading Room, Room 1E-190, Forrestal Building, 1000 Independence Avenue, SW., Washington, DC, between 9 a.m. and 4 p.m., Monday through Friday, except Federal holidays.

Issued at Washington, DC on October 5, 2001.
Rachel M. Samuel,
Deputy Advisory Committee Management Officer.

[FR Doc. 01-25485 Filed 10-10-01; 8:45 am]

BILLING CODE 6450-01-P